NUCLEAR REGULATORY COMMISSION

10 CFR Part 72

RIN 3150-AG67

List of Approved Spent Fuel Storage Casks: HI-STAR 100 Revision; Confirmation of Effective Date

AGENCY: Nuclear Regulatory Commission.

ACTION: Direct final rule; confirmation of effective date.

SUMMARY: The Nuclear Regulatory Commission (NRC) is confirming the effective date of May 29, 2001, for the direct final rule that appeared in the Federal Register of March 13, 2001 (66 FR 14483). This direct final rule amended the NRC's regulations by revising the Holtec International HI-STAR 100 cask system listing within the “List of approved spent fuel storage casks” to include Amendment No. 2 to the Certificate of Compliance (CoC).

DATES: The effective date of May 29, 2001 is confirmed for this direct final rule.

ADDRESSES: Documents related to this rulemaking, including comments received, may be examined at the NRC Public Document Room, 11555 Rockville Pike, Rockville, MD. These same documents may also be viewed and downloaded electronically via the rulemaking website (http://ruleforum.llnl.gov). For information about the interactive rulemaking website, contact Ms. Carol Gallagher (301) 415-5905; e-mail CAG@nrc.gov.

FOR FURTHER INFORMATION CONTACT: Stan Turel, telephone (301) 415-6234, e-mail, spt@nrc.gov, of the Office of Nuclear Material Safety and Safeguards, U.S. Nuclear Regulatory Commission, Washington, DC 20555-0001.

SUPPLEMENTARY INFORMATION: On March 13, 2001 (66 FR 14483), the NRC published in the Federal Register a direct final rule amending its regulations in 10 CFR 72 to revising the Holtec International HI-STAR 100 cask system listing within the “List of approved spent fuel storage casks” to include Amendment No. 2 to the Certificate of Compliance (CoC). Amendment No. 2 revises the HI-STAR 100 cask system Appendix B of the Technical Specifications (TS), Item 1.4.6, “Specific Parameters and Analysis for the Storage Pad and Foundation” to simplify the language of this specification. The current 60-g limit for cask drop and tipover events in TS Item 1.4.6 would remain unchanged. This document confirms the effective date. In the direct final rule, NRC stated that if no significant adverse comments were received, the direct final rule would become final on the date noted above. The NRC did not receive any comments that warranted withdrawal of the direct final rule. Therefore, this rule will become effective as scheduled.

Dated at Rockville, Maryland, this 18th day of May 2001.
For the Nuclear Regulatory Commission.
Michael T. Lesar,
Chief, Rules and Directives Branch, Division of Administrative Services, Office of Administration.

[FR Doc. 01-13145 Filed 5-23-01; 8:45 am]

BILLING CODE 7590-01-P